SOCIAL SECURITY ADMINISTRATION

[Docket No. SSA-2016-0017]

Public Availability of Social Security Administration Fiscal Year (FY) 2015 Service Contract Inventory

AGENCY: Social Security Administration.

ACTION: Notice of public availability of FY 2015 Service Contract inventories.

SUMMARY: In accordance with section 743 of Division C of the Consolidated Appropriations Act of 2010 (Pub. L. 111-117), we are publishing this notice to advise the public of the availability of the FY 2015 Service Contract inventory. This inventory provides information on FY 2015 service contract actions over $25,000. We organized the information by function to show how we distribute contracted resources throughout the agency. We developed the inventory in accordance with guidance issued on December 19, 2011 by the Office of Management and Budget's Office of Federal Procurement Policy (OFPP). OFPP's guidance is available at http://www.whitehouse.gov/sites/default/files/omb/procurement/memo/service-contract-inventory-guidance.pdf. You can access the inventory and summary of the inventory on our homepage at the following link: http://www.socialsecurity.gov/sci.

FOR FURTHER INFORMATION CONTACT: Maria Radvansky, Office of Budget, Social Security Administration, 6401 Security Boulevard, Baltimore, MD 21235-6401. Phone (410) 965-4696, email Maria.Radvansky@ssa.gov.

Patrick Perzan,
Deputy Associate Commissioner, Office of Budget, Office of Budget, Finance, Quality, and Management.

[FR Doc. 2016-11576 Filed 5-16-16; 8:45 am]

BILLING CODE 4191-02-P